DEPARTMENT OF LABOR

Employment and Training Administration

Comment Request for Information Collection for Job Corps Health Questionnaire (OMB Control No. 1205-0033, Extension With Minor Revisions)

AGENCY: Employment and Training Administration (ETA), Labor.

ACTION: Notice.

SUMMARY: The Department of Labor, as part of its continuing effort to reduce paperwork and respondent burden, conducts a pre-clearance consultation program to provide the general public and federal agencies with an opportunity to comment on proposed and/or continuing collections of information in accordance with the Paperwork Reduction Act of 1995 (PRA95) [44 U.S.C. 3506(c)(2)(A)].

This program helps to ensure that requested data can be provided in the desired format, reporting burden (time and financial resources) is minimized, collection instruments are clearly understood, and the impact of collection requirements on respondents can be properly assessed. Currently, the Employment and Training Administration is soliciting comments regarding gathering Job Corps application data collection forms (OMB Control No. 1205-0033, expires 1/31/2014): ETA Form 653, Job Corps Health Questionnaire.

DATES: Written comments must be submitted to the office listed in the addressee's section below on or before September 16, 2013.

ADDRESSES: Submit written comments to Carol Abnathy, Office of Job Corps, Room N4507, Employment and Training Administration, U.S. Department of Labor, 200 Constitution Avenue NW., Washington, DC 20210. Telephone number: 202-693-3283 (this is not a toll-free number). Individuals with hearing or speech impairments may access the telephone number above via TTY by calling the toll-free Federal Information Relay Service at 877-889-5627 (TTY/TDD). Fax: 202-693-3113; email: abnathy.carol@dol.gov. A copy of the proposed Information Collection Request can be obtained by contacting the office listed above.

SUPPLEMENTARY INFORMATION:

I. Background

Job Corps is the nation's largest residential, educational, and career technical training program for young Americans. Job Corps was established in 1964 by the Economic Opportunity Act and currently is authorized by Title I-C of the Workforce Investment Act of 1998. For almost 50 years, Job Corps has helped prepare nearly 3 million at-risk young people between ages 16 and 24 for success in our nation's workforce. With 125 centers in 48 states, Puerto Rico, and the District of Columbia, Job Corps assists students across the nation in attaining academic credentials, including a High School Diploma (HSD) and/or General Educational Development (GED), and career technical training credentials, including industry-recognized certifications, state licensures, and pre-apprenticeship credentials.

Job Corps is administered by the U.S. Department of Labor (DOL) through the Office of Job Corps and six Regional Offices. DOL awards and administers contracts for the recruiting and screening of new students, center operations, and the placement and transitional support of graduates and former enrollees. Large and small corporations and nonprofit organizations manage and operate 97 Job Corps centers under contractual agreements with DOL. These contract Center Operators are selected through a competitive procurement process that evaluates potential operators' technical expertise, proposed costs, past performance, and other factors, in accordance with the Competition in Contracting Act and the Federal Acquisition Regulations. The remaining 28 Job Corps centers, called Civilian Conservation Centers, are operated by the U.S. Department of Agriculture Forest Service, via an interagency agreement. The DOL has a direct role in the operation of Job Corps, and does not serve as a pass-through agency for this program.

II. Review Focus

The Department of Labor is particularly interested in comments which:

• Evaluate whether the proposed collection of information is necessary for the proper performance of the agency's function, including whether the information has practical utility;

• Evaluate the accuracy of the agency's estimate of the burden of the proposed collection of information, including the validity of the methodology and assumptions used;

• Enhance the quality, utility, and clarity of the information to be collected; and

• Minimize the burden of the information collection on those who are to respond, including through the use of appropriate automated, electronic, mechanical, or other technological collection techniques or other forms of information technology, e.g., permitting electronic submissions of responses.

III. Current Actions

Type of Review: Extension with minor revisions.

Title: Job Corps Health Questionnaire.

OMB Number: OMB 1205-0033.

Affected Public: Individuals (Job Corps Applicants).

Form(s): ETA Form 653.

Total Annual Responses: 86,581.

Average Time per Response: 7.43 minutes.

Estimated Total Annual Burden Hours: 10,722 hours.

Total Other Costs: $0.

Comments submitted in response to this comment request will be summarized and/or included in the request for Office of Management and Budget approval of the information collection request. They will also become a matter of public record.

Dated: July 10, 2013.
Gerri Fiala,
Acting Assistant Secretary for Employment and Training, Labor.

[FR Doc. 2013-17113 Filed 7-16-13; 8:45 am]

BILLING CODE 4510-FT-P